DEPARTMENT OF ENERGY

Federal Energy Regulatory Commission

[Docket No. [Docket No. CP02-383-000]

National Fuel Gas Supply Corporation; Notice of Time Extension for Comment Period

July 11, 2002.

On July 1, 2002, the Federal Energy Regulatory Commission issued a Notice of Intent To Prepare An Environmental Assessment for the Proposed National Fuel Replacement /Abandonment Project and Request For Comment on Environmental Issues (NOI). The NOI was sent to all landowners on the project that was supplied by National Fuel Gas Supply Corporation (National Fuel). The NOI requested comments by July 31, 2001. However, on July 10, 2002, National Fuel filed a revised list of 83 additional landowners that were not included in our original NOI mail list. Therefore, we are sending copies of the NOI to the additional 83 landowners and extending the comment period for the NOI to August 12, 2002.

Linwood A. Watson, Jr.,
Deputy Secretary.

[FR Doc. 02-17921 Filed 7-15-02; 8:45 am]

BILLING CODE 6717-01-P